DEPARTMENT OF ENERGY

Federal Energy Regulatory Commission

[Docket No. RP01-512-000]

Mid-Louisiana Gas Company; Notice of Tariff Filing

August 29, 2001.

Take notice that on August 22, 2001, Mid-Louisiana Gas Company (Midla) tendered for filing as part of its FERC Gas Tariff, Third Revised Volume No. 1, the following tariff sheets, with an effective date of September 1, 2001:

Third Revised Sheet No. 17

Original Sheet No. 17A

Fourth Revised Sheet No. 23

Fourth Revised Sheet No. 28

Third Revised Sheet No. 34

Third Revised Sheet No. 39

Fifth Revised Sheet No. 81

Midla states that the revised tariff sheets are being filed in order to clarify that the fuel retention provisions of Section 4.2 of its NNS, FTS, ITS, FTS-OCS and ITS-OCS Rate Schedules apply to the transportation services that Midla provides on its off-system facilities only to the extent that Midla incurs fuel or lost and unaccounted for volumes on those facilities.

Midla states that, whereas on its main system Midla incurs compressor fuel and lost and unaccounted for volumes in connection with all of its firm and interruptible transportation services, Midla does not incur any compressor fuel volumes on any of its off-system facilities because its does not provide any compression on such facilities, and, in many cases, does not incur any lost or unaccounted for volumes on such facilities either. Thus, according to Midla, its tariff filing clarifies that Midla will retain volumes under Section 4.2 for the firm and interruptible transportation services that it provides on its off-system facilities only to the extent that it incurs compressor fuel or lost and unaccounted for volumes on those facilities. Midla further states that its off-system facilities consist of: (i) its T-32 lateral, (ii) its pipeline facilities connected directly to Gulf South Pipeline Company, LP and (iii) its offshore laterals that are connected to the transmission systems of Tennessee Gas Pipeline Company, Southern Natural Gas Company and ANR Pipeline Company.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22222 Filed 9-4-01; 8:45 am]

BILLING CODE 6717-01-P